ENVIRONMENTAL PROTECTION AGENCY

[EPA-HQ-OECA-2012-0687; FRL-9951-75-OEI]

Information Collection Request Submitted to OMB for Review and Approval; Comment Request; NESHAP for Stationary Combustion Turbines (Renewal)

AGENCY: Environmental Protection Agency (EPA).

ACTION: Notice.

SUMMARY: The Environmental Protection Agency (EPA) has submitted an information collection request (ICR), “NESHAP for Stationary Combustion Turbines (40 CFR part 63, subpart YYYY) (Renewal)” (EPA ICR No. 1967.06, OMB Control No. 2060-0540), to the Office of Management and Budget (OMB) for review and approval in accordance with the Paperwork Reduction Act (44 U.S.C. 3501 et seq.). This is a proposed extension of the ICR, which is currently approved through September 30, 2016. Public comments were previously requested via the Federal Register (80 FR 32116) on June 5, 2015, during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before October 21, 2016.

ADDRESSES: Submit your comments, referencing Docket ID Number EPA-HQ-OECA-2012-0687, to: (1) EPA online using www.regulations.gov (our preferred method), or by email to docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit: http://www.epa.gov/dockets.

Abstract: The affected entities are subject to the General Provisions of the NESHAP (40 CFR part 63, subpart A), and any changes, or additions to the Provisions, which are specified at 40 CFR part 63, subpart YYYY. Owners or operators of the affected facilities must submit an initial notification report, performance tests, and periodic reports and results. Owners or operators are also required to maintain records of the occurrence and duration of any startup, shutdown, or malfunction in the operation of an affected facility, or any period during which the monitoring system is inoperative. Reports, at a minimum, are required semi-annually.

Form numbers: None.

Respondents/affected entities: Stationary combustion turbines constructed or reconstructed after January 14, 2003.

Respondent's obligation to respond: Mandatory (40 CFR part 63, subpart YYYY).

Estimated number of respondents: 131 (total).

Frequency of response: Initially, semiannually and annually.

Total estimated burden: 2,220 hours (per year). Burden is defined at 5 CFR 1320.3(b).

Total estimated cost: $239,000 (per year), which includes $9,700 in either annualized capital/startup or operation & maintenance costs.

Changes in the estimates: There is an adjustment increase in respondent labor hours in this ICR from the most-recently approved ICR. This is due to a projected industry growth, which results in an increase in the estimated number of sources subject to these standards. Additionally, there is a small adjustment decrease in the capital/startup cost due to a correction. The previous ICR incorrectly calculated the labor cost for installing catalyst inlet temperature monitoring devices.

Courtney Kerwin,
Director, Regulatory Support Division.

[FR Doc. 2016-22663 Filed 9-20-16; 8:45 am]

BILLING CODE 6560-50-P